FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant attorney General for the Antitrust Division of the Department of Justice. Neither agency intends to take any action with respect to these proposed acquisitions during the applicable waiting period.

Trans No. | Acquiring | Acquired | Entities
Transactions Granted Early Termination—6/11/2001
20011913 | TPG Partners II, L.P | Advanced Telcom Group, Inc | Advanced Telcom Group, Inc.
20011914 | Solectron Corporation | Singapore Shinei Sangyo Pte Ltd | Singapore Shinei Sangyo Pte Ltd.
20011917 | Network Peripherals Inc | FalconStor, Inc | FalconStor, Inc.
20011918 | ReiJane Huai | Network Peripherals Inc | Network Peripherals Inc.
20011935 | Robert R. Bennett | AT&T Corp | Liberty Media Corporation
20011938 | Argonaut Group, Inc | Front Royal, Inc | Front Royal, Inc.
20011945 | New World Coffee—Manhattan Bagel, Inc | Einstein/Noah Bagel Corp | Einstein/Noah Bagel Corp.
20011947 | Tembec Inc | Crown Vantage, Inc | Crown Paper Company
20011953 | Omnicom Group Inc | Agency.COM Ltd | Agency.COM Ltd.
Transactions Granted Early Termination—06/14/2001
20011950 | ABB Ltd | Entrelec Group | Entrelec Group
Transactions Granted Early Termination—06/15/2001
20011971 | DIC Entertainment Holdings, Inc | Golden Books Family Entertainment, Inc., debtor-in-possession | Golden Books Home Video, Inc., LRM Acquisition Corp.
|  |  | Golden Books Publishing Company, Inc.
|  |  | Shari Lewis Enterprises, Inc., SLE Productions, Inc.
Transactions Granted Early Termination—06/18/2001
20011898 | UPMC Health System | Northwest Health System, Inc | Northwest Health System, Inc.
20011920 | J.M. Huber Corporation | Noviant Oy | Noviant Oy
20011921 | The News Corporation Limited | Mr. Haim Saban | MTM Enterprises, Inc.
20011922 | The News Corporation Limited | The News Corporation Limited | MTM Enterprises, Inc.
20011937 | El Paso Corporation | Limestone Electron Trust | Cedar Brakes II LLC
20011939 | Limestone Electron Trust | El Paso Corporation | Manschief Power Company LLC.
20011942 | Bruce Nelson | Service Stations Partners, LP | Avanti Holdings, Inc.
20011946 | First Union Corporation | Wachovia Corporation | Wachovia Corporation
20011948 | Vitesse Semiconductor Corporation | Versatile Optical Networks, Inc | Versatile Optical Networks, Inc.
20011949 | CorrFlex Graphics, LLC | Chesapeake Corporation | Chesapeake Display and Packaging Company.
20011956 | Berkshire Hathaway Inc | Rexam PLC | MiTek, Inc.
20011960 | Yellow Pages Investments L.P | British Telecommunications plc | Yellow Book USA, Inc.
20011961 | Cypress Semiconductor Corporation | Lara Networks, Inc | Lara Networks, Inc.
20011973 | Conseco, Inc | vereniging AEGON | Transamerica Bank N.A.
|  |  | Transamerica Retail Financial Services Corporation
20011976 | Alan Cohen | Boca Resorts, Inc | Florida Panthers Hockey Club, Ltd.
20011977 | United Business Media plc | Douglas F. Allison | Allison-Fisher International, Inc.
20011981 | Goodrich Corporation | Goodrich Corporation | Garlock Bearings LLC
20011985 | UAL Corporation | MyPoints.com, Inc | MyPoints.com, Inc.
20011987 | Wolseley plc | M. Francois Pinault | Westbunne Supply Inc.
Transactions Granted Early Termination—06/19/2001
20011941 | Building Materials Holding Corporation | Lawrence W. & Beverly A. Knipp | KBI Distribution, LLC
|  |  | Knipp Brothers Industries, LLC
20011984 | The Innovation Group, plc | Halifax Capital Partners, L.P | MTW Corporation
Transactions Granted Early Termination—06/20/2001
20011375 | Excellus, Inc | Univera Healthcare Foundation | Univera Healthcare Foundation
20011885 | MSC.Software Corporation | Advanced Enterprise Solutions, Inc | Advanced Enterprise Solutions, Inc.
Transactions Granted Early Termination—06/22/2001
20011910 | DoveBid, Inc | FastParts, Inc | FastParts, Inc.
20012023 | The AES Corporation | Thermo Electron Corporation | Ecotek NewSub Corporation
|  |  | Wooldand Biomass Power Ltd.

FOR FURTHER INFORMATION CONTACT: Sandra M. Peay or Parcellena P. Fielding Contact Representatives Federal Trade Commission, Premerger Notification Office, Bureau of Competition, Room 303, Washington, D.C. 20580, (202) 326-3100.

Donald S. Clark,
Secretary.

[FR Doc. 01-19340 Filed 8-1-01; 8:45 am]

BILLING CODE 6750-01-M